DEPARTMENT OF ENERGY

Federal Energy Regulatory Commission

[Docket No. EG01-48-000, et al.]

Southern Energy Chalk Point, LLC, et al.; Electric Rate and Corporate Regulation Filings

December 14, 2000.

Take notice that the following filings have been made with the Commission:

1. Southern Energy Chalk Point, LLC

[Docket No. EG01-48-000]

Take notice that on December 11, 2000, Southern Energy Chalk Point, LLC, 1155 Perimeter Center West, Suite 130, Atlanta, Georgia 30338 (SECP), filed with the Federal Energy Regulatory Commission an application for determination of exempt wholesale generator status pursuant to Part 365 of the Commission's regulations.

SECP is a Delaware limited liability company that intends to acquire a direct 100 percent ownership interest in the four (4) baseload steam units at the Chalk Point Generating Station located in Prince George's County, Maryland (the “Chalk Point Station”). The Chalk Point Station has an aggregate generating capacity of approximately 1907 MW. SECP is engaged directly and exclusively in the business of owning or operating, or both owning and operating, all or part of one or more eligible facilities and selling electric energy at wholesale. SECP may also sell certain ancillary services consistent with its EWG status.

Comment date: January 8, 2001, in accordance with Standard Paragraph E at the end of this notice. The Commission will limit its consideration of comments to those that concern the adequacy or accuracy of the application.

2. Southern Energy Mid-Atlantic, LLC

[Docket No. EG01-49-000]

Take notice that on December 11, 2000, Southern Energy Mid-Atlantic, LLC, 900 Ashwood Parkway, Suite 500, Atlanta, Georgia 30338 (SEMA), filed with the Federal Energy Regulatory Commission an application for determination of exempt wholesale generator status pursuant to Part 365 of the Commission's regulations.

SEMA is a Delaware limited liability company that intends to acquire a direct 100 percent ownership interest in Units 1 through 3 located at the Dickerson Station located in Montgomery County, Maryland (the Dickerson Station). SEMA also intend to acquire a direct 100 percent ownership interest in Units 1 through 6 at the Morgantown Station located in Charles County, Maryland (the Morgantown Station). Units 1 through 3 at the Dickerson Station have an aggregate generating capacity of approximately 291 MW, and approximately 248 MW. SEMA will be engaged directly and exclusively in the business of owning or operating, or both owning and operating, all or part of one or more eligible facilities and selling electric energy at wholesale. SEMA may also sell certain ancillary services consistent with its EWG status.

Comment date: January 8, 2001, in accordance with Standard Paragraph E at the end of this notice. The Commission will limit its consideration of comments to those that concern the adequacy or accuracy of the application.

3. Southern Energy Peaker, LLC

[Docket No. EG01-50-000]

Take notice that on December 11, 2000, Southern Energy Peaker, LLC, 1155 Perimeter Center West, Suite 130, Atlanta, Georgia 30338 (SEP), filed with the Federal Energy Regulatory Commission an application for determination of exempt wholesale generator status pursuant to Part 365 of the Commission's regulations.

SEP is a Delaware limited liability company that intends to acquire a direct 100 percent ownership interest in the six (6) oil/gas-fired combustion turbines at the Chalk Point Generating Station located in Prince George's County, Maryland (the Chalk Point CTs). The Chalk Point CTs have an aggregate generating capacity of approximately 432 MW. SEP is engaged directly and exclusively in the business of owning or operating, or both owning and operating, all or part of one or more eligible facilities and selling electric energy at wholesale. SEP may also sell certain ancillary services consistent with its EWG status.

Comment date: January 8, 2001, in accordance with Standard Paragraph E at the end of this notice. The Commission will limit its consideration of comments to those that concern the adequacy or accuracy of the application.

4. Southern Energy Potomac River, LLC

[Docket No. EG01-51-000]

Take notice that on December 11, 2000, Southern Energy Potomac River, LLC, 1155 Perimeter Center West, Suite 130, Atlanta, George 30338 (SEPR), filed with the Federal Energy Regulatory Commission an application for determination of exempt wholesale generator status pursuant to Part 365 of the Commission's regulations.

SEPR is a Delaware limited liability company that intends to acquire a direct 100 percent ownership interest in the Potomac River Generating Station located in the City of Alexandria, Virginia (the “Potomac River Station”). The Potomac River Station has an aggregate generating capacity of approximately 482 MW. SEPR is engaged directly and exclusively in the business of owning or operating, or both owning and operating, all or part of one or more eligible facilities and selling electric energy at wholesale. SEPR may also sell certain ancillary services consistent with its EWG status.

Comment date: January 8, 2001, in accordance with Standard Paragraph E at the end of this notice. The Commission will limit its consideration of comments to those that concern the adequacy or accuracy of the application.

5. Cinergy Services, Inc.

[Docket No. ER001-585-000]

Take notice that on December 15, 2000, Cinergy Services, Inc. (Cinergy), tendered for filing a Service Agreement under Cinergy's Resale, Assignment or Transfer of Transmission Rights and Ancillary Service Rights Tariff (the Tariff) entered into between Cinergy and Duke Power. This Service Agreement has been executed by both parties and is to replace the existing unexecuted Service Agreement.

Comment date: December 26, 2000, in accordance with Standard Paragraph E at the end of this notice.

6. Public Service Company of New Mexico

[Docket No. ER01-632-000]

Take notice that on December 8, 2000, Public Service Company of New Mexico (PNM), tendered for filing executed service agreements with The Legacy Energy Group, LLC (Legacy) under the term of PNM's Open Access Transmission Tariff (two agreements dated July 1, 2000, one for short-term firm point-to-point transmission service and one for non-firm point-to-point transmission service). PNM's filing is available for public inspection at its offices in Albuquerque, New Mexico.

Copies of the filing have been sent to Legacy and to the New Mexico Public Regulation Commission.

Comments date: December 29, 2000, in accordance with Standard Paragraph E at the end of this notice.

7. Allegheny Energy Service Corporation, on behalf of Allegheny Energy Supply Company, LLC

[Docket No. ER01-633-000]

Take notice that on December 8, 2000, Allegheny Energy Service Corporation on behalf of Allegheny Energy Supply Company, LLC (Allegheny Energy Supply) tendered for filing Second Revised Service Agreement No. 80 under the Market Rate Tariff to incorporate a Netting Agreement with Reliant Energy Services, Inc. into the tariff provisions.

Allegheny Energy Supply requests a waiver of notice requirements to make the Netting Agreement effective as of November 21, 2000 or such other date as ordered by the Commission.

Copies of the filing have been provided to the Public Utilities Commission of Ohio, the Pennsylvania Public Utility commission, the Maryland Public Service Commission, the Virginia State Corporation Commission, the West Virginia Public Service Commission, and all parties of record.

Comments date: December 29, 2000, in accordance with Standard Paragraph E at the end of this notice.

8. Northeast Utilities Service Company

[Docket No. ER01-634-000]

Take notice that on December 8, 2000, Northeast Utilities Service Company (NUSCO), tendered for filing a Service Agreement to provide Firm Point-To-Point Transmission Service Tariff No. 9.

NUSCO states that a copy of this filing has been mailed to NRG Power Marketing Inc.

NUSCO request that the Service Agreement become effective January 2, 2001.

Comments date: December 29, 2000, in accordance with Standard Paragraph E at the end of this notice.

9. Northeast Utilities Service Company

[Docket No. ER01-635-000]

Take notice that on December 8, 2000, Northeast Utilities Service Company (NUSCO), tendered for filing, Service Agreement to provide Non-Firm Point-To-Point Transmission Service to NRG Power Marketing Inc. under the NU System Companies' Open Access Transmission Service Tariff No. 9.

NUSCO states that a copy of this filing has been mailed to NRG Power Marketing Inc.

NUSCO request that the Service Agreement become effective January 2, 2001.

Comments date: December 29, 2000, in accordance with Standard Paragraph E at the end of this notice.

10. Ameren Energy Marketing Company

[Docket No. ER01-142-001]

Take notice that on December 11, 2000, Ameren Energy Marketing Company (AEM), tendered for filing an amended Master Power Purchase and Sale Agreement in the above-referenced docket.

Comments date: January 2, 2001, in accordance with Standard Paragraph E at the end of this notice.

11. Madison Gas and Electric Company

[Docket No. ER01-636-000]

Take notice that on December 8, 2000, Madison Gas and Electric Company (MGE), tendered for filing a service agreement under MGE's Market-Based Power Sales Tariff with Morgan Stanley.

MGE requests the agreement be effective on the date it was filed with the FERC.

Comments date: December 29, 2000, in accordance with Standard Paragraph E at the end of this notice.

12. Central Maine Power Company

[Docket No. ER01-637-000]

Take notice that on December 8, 2000, Central Maine Power Company (CMP) tendered for filing a service agreement for Non-Firm Point-to-Point Transmission service entered into with Duke Energy Trading and Marketing. Service will be provided pursuant to CMP's Open Access Transmission Tariff, designated rate schedule CMP—FERC Electric Tariff, Original Volume No. 3, as supplemented.

Comments date: December 29, 2000, in accordance with Standard Paragraph E at the end of this notice.

13. Bangor Hydro-Electric Company

[Docket No. ER01-638-000]

Take notice that on December 8, 2000, Bangor Hydro-Electric Company filed an executive service agreement for firm point-to-point transmission service with Beaver Wood Joint Venture.

Comments date: December 29, 2000, in accordance with Standard Paragraph E at the end of this notice.

14. Xcel Energy Operating Companies, Northern States Power Company, Northern States Power Company (Wisconsin)

[Docket No. ER01-639-000]

Take notice that on December 8, 2000, Northern States Power Company and Northern States Power Company (Wisconsin) (jointly NSP), wholly-owned utility operating company subsidiaries of Xcel Energy Inc., tendered for filing a Network Integration Transmission Service Agreement and a Network Operating Agreement between NSP and Rice Like Utilities, a municipal utility. NSP proposes the Agreements be included in the Xcel Energy Operating Companies FERC Joint Open Access Transmission Tariff, Original Volume No. 2, as Service Agreement Nos. 178-NSP and 179-NSP, pursuant to Order No. 614.

NSP requests that the Commission accept the agreement effective January 1 2001, and requests waiver of the Commission's notice requirements as may be necessary for the agreements to be accepted for filing on the date requested.

Comments date: December 29, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-32469 Filed 12-20-00; 8:45 am]

BILLING CODE 6717-01-U